DEPARTMENT OF JUSTICE

Notice of Lodging of Consent Decree Under The Clean Air Act

Pursuant to 28 CFR 50.7, notice is hereby given that on May 16, 2011, a proposed Consent Decree in United States v. Allied Metal Company, Civil Action No. 11 C 3228, was lodged with the United States District Court for the Northern District of Illinois.

In a civil action filed simultaneously with the Consent Decree, the United States seeks a civil penalty against Allied Metal Company (“Allied”), pursuant to Section 113(b) of the Clean Air Act (“CAA”), 42 U.S.C. 7413(b), for alleged environmental violations of 40 CFR Part 63, Subpart RRR. These violations are alleged to have occurred at Allied's facility located at 4528 W. Division Street, Chicago, Illinois.

Under the proposed settlement, Allied will be required to (1) permanently shut down its thermal chip dryer and remove it as an emission source from its permit; (2) surrender all pollution credits relating to emissions from the chip dryer; (3) perform a supplemental environmental project by spending $132,627 to retrofit municipal or school bus diesel vehicles within Cook County by installing pollution control devices to reduce the emissions of particulate matter and hydrocarbons; (4) perform a supplemental environmental project by spending $132,627 to restore, cleanup, rebuild and re-vegitate with plants which have high adsorption capacity for dioxins and furans, the river edge of Allied's property located along the Chicago River; (5) provide periodic reports to EPA regarding its implementation of its obligations under the decree, and (6) pay a civil penalty of $92,210.

The Department of Justice will receive for a period of thirty (30) days from the date of this publication comments relating to the Consent Decree. Comments should be addressed to the Assistant Attorney General, Environment and Natural Resources Division, and either mailed to pubcomment-ees.enrd@usdoj.gov or mailed to P.O. Box 7611, U.S. Department of Justice, Washington, DC 20044-7611, and should refer to United States v. Allied Metal Company, D.J. Ref. 90-5-2-1-08732.

The Consent Decree may be examined at the Office of the United States Attorney, Attn. Kurt N. Lindland, Assistant United States Attorney, 219 S. Dearborn Street, 5th Flr., Chicago, Illinois, and at U.S. EPA Region 5, 77 West Jackson Blvd., 14th Flr., Chicago, Illinois. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $9.25 payable to the U.S. Treasury or, if by e-mail or fax, forward a check in that amount to the Consent Decree Library at the stated address.

Maureen M. Katz,
Assistant Section Chief, Environmental Enforcement Section, Environment and Natural Resources Division.

[FR Doc. 2011-14380 Filed 6-9-11; 8:45 am]

BILLING CODE 4410-15-P